DEPARTMENT OF THE TREASURY

Proposed Collection; Comment Request for Supplemental Quarterly Report (Small Business Lending Fund, SBLF)

AGENCY: Office of Domestic Finance, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Domestic Finance within the Department of the Treasury is soliciting comments concerning requirements for banks participating in the Small Business Lending Fund to report information about the level and type of loans they are making to small businesses on a quarterly basis.

DATES: Written comments must be received on or before November 28, 2011 to be assured of consideration.

ADDRESSES: You may submit comments by any of the following methods:

Federal eRulemaking Portal: http://www.regulations.gov. Follow the instructions for submitting comments.

Fax: Attn: Request for Comments (SBLF Quarterly Supplemental Reports) (202) 622-8722

Mail: Attn: Request for Comments (SBLF Quarterly Supplemental Reports). Office of Domestic Finance, Department of the Treasury, 1500 Pennsylvania Avenue, NW., Washington, DC 20220

Instructions: All submissions received must include the agency name and the Federal Register Doc. number that appears at the end of this document. Comments received will be made available to the public via regulations.gov or upon request, without change and including any personal information provided.

FOR FURTHER INFORMATION CONTACT: Requests for additional information about the filings or procedures should be directed to Manager (Communications, Research and External Affairs), Small Business Lending Fund, Office of Domestic Finance, Department of the Treasury, 1500 Pennsylvania Avenue, NW., Washington, DC 20220.

SUPPLEMENTARY INFORMATION: Title: Requirement to report quarterly data on Small Business Lending.

OMB Number: 1505-0228.

Abstract: Once accepted into the SBLF program, a bank is required to submit a Supplemental Report each quarter. The Supplemental Report serves two purposes.

First, the Quarterly Supplemental Report is used to determine the bank's small business lending baseline. The baseline is the bank's historical amount of small business lending for the period October 2009 to September 2010. The program considers a bank's increases in small business lending against this historical baseline. In addition, a bank's initial dividend rate is based on the increase in small business lending (over this baseline) in the quarters since October 2010.

Second, every quarter thereafter, the bank files a Supplemental Report quarterly so that Treasury can assess the change in the small business lending for the previous quarter. That change from the historical baseline is used to set the dividend rate for the next quarter.

Type of Review: Extension of a currently approved collection.

Affected Public: Banks and lending institutions that were approved by Treasury to participate in the Small Business Lending Fund.

Estimated Number of Respondents: 350.

Estimated Annual Responses: 1,400.

Estimated Hours per Response: 4 hours.

Estimated Total Annual Burden Hours: 5,600 hours.

The following paragraph applies to all of the collections of information covered by this notice:

An agency may not conduct or sponsor, and a person is not required to respond to, a collection of information unless the collection of information displays a valid Office of Management and Budget (“OMB”) control number. Books or records relating to a collection of information must be retained for five years.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology, and (e) estimates of capital or start-up costs and costs of operation, maintenance, and purchase of services to provide information.

Dawn D. Wolfgang,
Treasury PRA Clearance Officer.

[FR Doc. 2011-25040 Filed 9-28-11; 8:45 am]

BILLING CODE 4810-25-P